ENVIRONMENTAL PROTECTION AGENCY

[EPA-R04-OAR-2014-0510 and EPA-R04-OAR-2014-0487; FRL-9920-93-OAR]

Notice of Issuance of Final Air Permits for Statoil Gulf Services, LLC and Anadarko Petroleum Corporation

AGENCY: Environmental Protection Agency.

ACTION: Notice of final actions.

SUMMARY: This notice is to announce that the Environmental Protection Agency (EPA) issued a final Outer Continental Shelf (OCS) air quality permit numbered OCS-EPA-R4012-M1 for Statoil Gulf Services, LLC (Statoil) on August 14, 2014, and an OCS air quality permit numbered OCS-EPA-R4015 for Anadarko Petroleum Corporation (Anadarko) on September 16, 2014.

ADDRESSES: The final permits, the EPA's response to public comments for these permits, if applicable, and supporting information are available at http://www.epa.gov/region4/air/permits/index.htm. These materials are also available for review at the EPA Regional Office and upon request in writing. The EPA requests that you contact the person listed in the FOR FURTHER INFORMATION CONTACT section to schedule an inspection or to submit a written request for copies of these materials. The Regional Office's official hours of business are Monday through Friday, 8:30 a.m. to 4:30 p.m. excluding Federal holidays.

FOR FURTHER INFORMATION CONTACT: Please contact Ms. Heather Ceron, Air Permits Section Chief, Air Planning Branch, Air, Pesticides and Toxics Management Division, Region 4, U.S. Environmental Protection Agency, 61 Forsyth Street SW., Atlanta, Georgia 30303-8960. The telephone number is (404) 562-9185. Ms. Ceron can also be reached via electronic mail at ceron.heather@epa.gov.

SUPPLEMENTARY INFORMATION: On July 9, 2014, EPA Region 4 requested public comments on a preliminary determination to issue an OCS air permit modification for Statoil's existing OCS air quality permit numbered OCS-EPA-R4012. During the public comment period, which ended on August 8, 2014, the EPA received no comments.

On June 20, 2014, EPA Region 4 requested public comments on a preliminary determination to issue an OCS air quality permit for the Anadarko EGOM (Eastern Gulf of Mexico) project. The EPA received a total of 14 comments from 1 commenter (Anadarko) during the public comment period, which closed on July 21, 2014.

The EPA reviewed each comment received for the Anadarko EGOM project and prepared a Response to Comments document. Since no comments were received for the Statoil project, a Response to Comment document was not prepared. After consideration of the expressed view of all interested persons, the pertinent federal statutes and regulations, the applications and supplemental information submitted by the applicants, and additional material relevant to the applications and contained in the Administrative Records, the EPA made final determinations in accordance with 40 CFR parts 55 and 71 to issue final air permits.

The EPA must follow the administrative procedures in 40 CFR part 124 used to issue PSD permits when processing OCS permit applications under Part 55. 40 CFR 55.6(a)(3). The EPA must also follow the administrative procedures of 40 CFR part 71 when issuing permits to OCS sources subject to Title V requirements. 40 CFR 71.4(d). Under 40 CFR 124.19(l)(3) and 40 CFR 71.11(l)(7), notice of any final Agency action regarding a subject permit must be published in the Federal Register. Section 307(b)(1) of the CAA provides for review of final Agency action that is locally or regionally applicable in the United States Court of Appeals for the appropriate circuit. Such a petition for review of final Agency action must be filed on or before 11:59 p.m. on the 60th day from the date of notice of such action in the Federal Register. For purposes of judicial review under the CAA, final Agency action occurs when a final permit is issued or denied by the EPA and Agency review procedures are exhausted, per 40 CFR 124.19(l)(2) and 40 CFR 71.11(l)(5).

The Statoil permit became effective on August 14, 2014.

Any person who filed comments on the Anadarko draft permit was provided the opportunity to petition the Environmental Appeals Board by October 15, 2014. No petitions were submitted for this permit. Therefore, the Anadarko permit became effective on October 16, 2014.

Dated: December 11, 2014.
Beverly H. Banister,
Director, Air, Pesticides, and Toxics, Management Division, Region 4.

[FR Doc. 2014-30602 Filed 12-29-14; 8:45 am]

BILLING CODE 6560-50-P